DEPARTMENT OF EDUCATION

RIN 1820-ZA35

Special Demonstration Programs—Model Demonstration Projects—Positive Psychology

AGENCY: Office of Special Education and Rehabilitative Services, Department of Education.

ACTION: Notice of proposed priority, definitions, and application requirements.

SUMMARY: The Assistant Secretary for the Office of Special Education and Rehabilitative Services proposes a priority, definitions, and application requirements under the Special Demonstration Programs focusing on developing models that adapt positive psychology techniques for use by vocational rehabilitation (VR) professionals to improve the employment outcomes of VR consumers. The positive psychology models developed under this priority must incorporate effective, research-based principles. The Assistant Secretary may use this priority, definitions, and application requirements for competitions in fiscal year (FY) 2004 and later years. We take this action to improve the quality of employment outcomes for VR consumers through testing and measuring the effects of three specific positive psychology techniques for use within State VR agencies.

DATES: We must receive your comments on or before June 25, 2004.

ADDRESSES: Address all comments about this proposed priority, definitions, and application requirements to Alfreda Reeves, U.S. Department of Education, 400 Maryland Avenue, SW., room 3314, Switzer Building, Washington, DC 20202-2645 (on or before June 4, 2004); room 5040, Potomac Center Plaza, Washington, DC 20202-2645 (after June 4, 2004). If you prefer to send your comments through the Internet, use the following address: Alfreda.Reeves@ed.gov.

You must include the term “SPECIAL DEMONSTRATION: POSITIVE PSYCHOLOGY” in the subject line of your electronic message.

FOR FURTHER INFORMATION CONTACT: Alfreda Reeves. Telephone: (202) 205-9361 (on or before June 4, 2004); (202) 245-7485 (after June 4, 2004); or via Internet: Alfreda.Reeves@ed.gov.

If you use a telecommunications device for the deaf (TDD), you may call the Federal Information Relay Service (FIRS) at 1-800-877-8339.

Individuals with disabilities may obtain this document in an alternative format (e.g., Braille, large print, audiotape, or computer diskette) on request to the contact person listed under FOR FURTHER INFORMATION CONTACT.

SUPPLEMENTARY INFORMATION:

Invitation To Comment

We invite you to submit comments regarding this proposed priority, definitions, and application requirements.

We invite you to assist us in complying with the specific requirements of Executive Order 12866 and its overall requirement of reducing regulatory burden that might result from this notice. Please let us know of any further opportunities we should take to reduce potential costs or increase potential benefits while preserving the effective and efficient administration of the program.

During and after the comment period, you may inspect all public comments about this proposed priority, definitions, and application requirements between the hours of 8:30 a.m. and 4 p.m., eastern time, Monday through Friday of each week except Federal holidays. On or before June 4, 2004, you may inspect the comments in room 3038, 330 C Street, SW., Washington, DC. After June 4, 2004, you may inspect the comments in room 5058, 550 12th Street, SW., Washington, DC.

Assistance to Individuals With Disabilities in Reviewing the Rulemaking Record

On request, we will supply an appropriate aid, such as a reader or print magnifier, to an individual with a disability who needs assistance to review the comments or other documents in the public rulemaking record for this proposed priority, definitions, and application requirements. If you want to schedule an appointment for this type of aid, please contact the person listed under FOR FURTHER INFORMATION CONTACT.

We will announce the final priority, definitions, and application requirements in a notice in the Federal Register. We will determine the final priority, definitions, and application requirements after considering responses to this notice and other information available to the Department. This notice does not preclude us from proposing or funding additional priorities, subject to meeting applicable rulemaking requirements.

Note: This notice does not solicit applications. In any year in which we choose to use this proposed priority, definitions, and application requirements, we invite applications through a notice in the Federal Register.

When inviting applications we designate the priority as absolute, competitive preference, or invitational. The effect of each type of priority follows:

Absolute priority: Under an absolute priority, we consider only applications that meet the priority (34 CFR 75.105(c)(3)).

Competitive preference priority: Under a competitive preference priority, we give competitive preference to an application by either (1) awarding additional points, depending on how well or the extent to which the application meets the competitive priority (34 CFR 75.105(c)(2)(i)); or (2) selecting an application that meets the competitive priority over an application of comparable merit that does not meet the priority (34 CFR 75.105(c)(2)(ii)).

Invitational priority: Under an invitational priority, we are particularly interested in applications that meet the invitational priority. However, we do not give an application that meets the invitational priority a competitive or absolute preference over other applications (34 CFR 75.105(c)(1)).

Priority

Proposed Priority, Definitions, and Application Requirements—Model Demonstration Projects—Positive Psychology

These model demonstration projects would improve the quality of employment outcomes for VR consumers through testing and measuring the effects of three specific positive psychology techniques for use within State VR agencies.

The program will be conducted under section 303(b) of the Rehabilitation Act of 1973, as amended (Act). The proposed priority supports section 303(b) by furthering the purposes of the Act, specifically empowering consumers of VR by implementing techniques that will increase the skills of individuals with disabilities, enabling them to achieve high quality employment outcomes.

Background

Positive psychology is the study and practice of counseling techniques based on cognitive-behavioral therapy to assist individuals to develop an increased awareness of their own positive character strengths, emotional processing, and belief systems (Seligman & Csikszentmihalyi, 2000). These techniques help consumers to build skills to accurately assess their internal beliefs that create barriers to effectively cope with adversities that occur in their lives and to expand their ability to challenge these beliefs in order to pursue flexible and appropriate responses to the adversities. Positive psychology techniques empower individuals to take control of their own lives, to increase their capacity for effective decisionmaking, and to persist in pursuing goal-directed activities.

The principles of positive psychology and the effectiveness of counseling techniques using these principles are well documented in the literature (Reivich & Shatte, 2002; Fredrickson, 2001; Sheldon & King, 2001; Seligman & Csikszentmihalyi, 2000; Vaillant, 2000; Peterson & Seligman, 1984). Positive psychology factors have been demonstrated to affect the subjective experience of disability and the use of effective coping skills by individuals with a variety of physical and psychological conditions (Helgeson, Snyder, and Seltman, 2004; Brissette, Leventhal & Leventhal, 2003; Fredrickson, B. L., et al., 2003; Symister & Friend, 2003; Penedo, et al., 2003; Chapin & Kewman, 2001; Waldrop, et al., 2001; Seligman & Csikszentmihalyi, 2000; Callahan, 2000). A review of the literature by the National Institute on Disability Rehabilitation Research (NIDRR) and use of the PsychArticles research database revealed one reported application of the principles of positive psychology to the employment outcomes of individuals with disabilities (Chapin & Kewin, 2001). However, no research literature was identified that applied these principles and techniques to individuals with disabilities in VR settings.

Therefore, this proposed priority is intended to develop and demonstrate the validity of counseling tools and techniques based on the principles of positive psychology with individuals with disabilities in the VR system. Research in positive psychology has yielded a variety of approaches to assist individuals to identify their own beliefs and actions that are barriers to their ability to handle effectively life's adversities. These approaches are based on the techniques of cognitive-behavioral skills development and include models developed to change rigid and pessimistic beliefs and cognitive constructs to more flexible and positive ones. Major work in developing positive psychology approaches has been reported by Martin Seligman (1991), Barbara Fredrickson (2001), Mihaly Csikszentmihalyi (1997), Reivich & Shatte (2002), and others. Successful projects under this model demonstration program would address three specific aspects of positive psychology and their application to rehabilitation—learned optimism; strengths and virtues versus talents for employment; and subjective well-being.

The learned optimism technique has been demonstrated to be an effective clinical therapeutic intervention in numerous studies (Reivich & Shatte, 2002; Fredrickson, 2001; Sheldon & King, 2001; Seligman & Csikszentmihalyi, 2000; Vaillant, 2000; Peterson & Seligman, 1984, for example). Optimistic individuals have the skill to see setbacks as temporary and local, whereas pessimistic individuals see setbacks as permanent, pervasive, and personal. Pessimism primarily undermines people by lowering response initiation: Pessimistic people give up easily.

Research demonstrates that learned optimism results in less depression, better productivity (including work productivity), and better overall health (Helgeson, Snyder, & Seltman, 2004; Riolli & Savicki, 2003; Brissette, Leventhal & Leventhal, 2003; Morris & Long, 2002; Waldrop, et al., 2001; Lyubomirsky, Tucker, Caldwell & Berg, 1999; Segerstrom, Taylor, Kemeny, & Fahey, 1998).

The field of positive psychology has demonstrated the effectiveness of learned optimism principles and techniques in changing pessimism to optimism, but these principles and techniques have not been applied to individuals with disabilities in the public VR setting.

Strengths and virtues versus talents for employment is a theoretical approach that has identified a paradox about most work settings: Individuals are selected and educated for jobs based on their talents, but much of their success, retention, and productivity at work depends, not on talents, but on their strengths and virtues. Physical coordination, analytic intelligence, and verbal fluency are examples of some of the talents that result in obtaining jobs, but persistence, social intelligence, kindness, humor, sense of purpose, and loyalty are some examples of the strengths and virtues that have been identified as resulting in keeping jobs (Seligman, 2002).

Methodology using the principles of positive psychology exists for assessing strengths and virtues as a means of determining an individual's compatibility with a particular job. Research has demonstrated that individuals who use their “signature strengths” on the job have higher job satisfaction, more loyalty, better productivity, are more engaged, and are more likely to have peak experiences related to their work (Seligman, 2002). Some individuals with disabilities may lack access or functional abilities to gain some work-related talents, but they may possess a variety of individual strengths and virtues. Identifying employment settings based on individuals' strengths and virtues may result in a better match for individuals to employment opportunities, higher productivity, and longer job retention.

Positive psychology techniques have been linked to improved subjective well-being (SWB) (Segerstrom, Taylor, Kemeny, & Fahey, 1998; Lucas, Diener & Suh, 1996; Smith, Christensen, Peck, & Ward, 1994; Mikulincer, 1989; Peterson, Luborsky, & Seligman, 1983). Individuals with high SWB take better care of themselves than do individuals with low SWB.

For example, the Surgeon General's report on smoking revealed that optimists (those believing “what I do matters”) gave up smoking at a higher rate than pessimists. Coping well with a disability often requires compliance with medical, physical, and rehabilitation planning and activities. For example, individuals in recovery from many types of cardiac conditions are often recommended to make medication, dietary, and exercise changes in their lives. Research in positive psychology has demonstrated that individuals with low SWB fail to follow these medical recommendations and, as a result, experience increased levels of functional limitation more often than individuals with high SWB. Research in the field of positive psychology has developed interventions that produce improved SWB.

To date, these three interventions have not been used with individuals with disabilities in the VR setting to demonstrate their effect on high quality employment outcomes.

Priority

Under 34 CFR 75.105(b)(2)(v) and section 303(b)(1) of the Rehabilitation Act of 1973, as amended (Act), this priority supports projects that test and measure the effects of three specific positive psychology techniques for vocational rehabilitation (VR) professionals for improving the quality of employment outcomes for individuals with disabilities. The models tested under this program must incorporate effective, research-based positive psychology methods.

A. Definitions

Learned optimism teaches people to become more hopeful, realistic, and flexible in their identification of and disputation of internal beliefs that result in rigid, pessimistic, and negative outcome expectations.

Strengths and virtues versus talents for employment is a theoretical concept that links the internal characteristics of individuals rather than specific functional skills or talents with employment success.

Subjective well-being (SWB) is a measurement of an individual's positive view of himself or herself across a number of dimensions, including optimism, life satisfaction, engagement, health, and sense of purpose.

B. General Requirements for Applicants

These model demonstration projects must focus on research-based positive psychology principles that adapt appropriate techniques for VR professionals to use to assist VR consumers to obtain meaningful postsecondary education and employment outcomes. The projects must test and measure the effects of three specific techniques on achieving meaningful postsecondary education and employment outcomes. The projects must measure outcomes associated with each required technique. An applicant must be specific about what data it will collect in order to measure project outcomes against the established goals. To meet the requirements an applicant must—

(1) Describe the manner in which positive psychology strategies will increase participation in postsecondary education and employment outcomes for consumers of the public VR program;

(2) Adapt, test, and measure the impact of three positive psychology strategies on increasing the level of optimism of consumers of the public VR program and investigate the relationship between learned optimism and consumers' outcomes;

(3) Adapt and develop positive psychology assessment tools to identify the strengths and virtues of individuals with disabilities, identify specific job environments that match specific strengths and virtues, pilot placement activities with individuals with disabilities based on the fit of their strengths and virtues, and investigate the relationship of consumers' strengths and virtues and meaningful postsecondary education and employment outcomes;

(4) Develop positive psychology strategies to enhance SWB of people with disabilities in the VR setting. Projects must investigate the relationship between these strategies and meaningful postsecondary education and employment outcomes;

(5) Design and implement an evaluation plan that—

(a) assesses the validity of the models tested and developed under this program;

(b) includes use of objective performance measures that are clearly related to the intended outcomes and goals of the project and will produce quantitative and qualitative data to the extent possible; and

(c) provides performance feedback and permits periodic assessment of progress toward achieving intended outcomes and goals; and

(6) Disseminate these strategies, as appropriate, to State VR agencies, their service providers, and independent living centers funded by the Rehabilitation Services Administration and other agencies and entities funded under the Act.

Executive Order 12866

This notice of proposed priority, definitions, and application requirements has been reviewed in accordance with Executive Order 12866. Under the terms of the order, we have assessed the potential costs and benefits of this regulatory action.

The potential costs associated with the notice are those resulting from statutory requirements and those we have determined as necessary for administering this program effectively and efficiently.

In assessing the potential costs and benefits—both quantitative and qualitative—of this notice, we have determined that the benefits of the proposed priority, definitions, and application requirements justify the costs.

We have also determined that this regulatory action does not unduly interfere with State, local, and tribal governments in the exercise of their governmental functions.

Summary of Potential Costs and Benefits

The Assistant Secretary has determined that the cost to the Federal Government associated with this program will not exceed $300,000 in FY 2004. No other costs will result from the announcement of this proposed priority, definitions, and application requirements.

The benefit of this proposed priority, definitions, and application requirements will be the establishment of model demonstration projects that will lead to improving the quality of employment outcomes for VR customers through developing positive psychology techniques for use within State VR agencies.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Applicable Program Regulations: 34 CFR part 373.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.235A Special Demonstration Programs—Model Demonstration Projects—Positive Psychology)
Program Authority: 29 U.S.C. 773(b).
Dated: April 14, 2004.
Troy R. Justesen,
Acting Deputy Assistant Secretary for Special Education and Rehabilitative Services.

[FR Doc. 04-11928 Filed 5-25-04; 8:45 am]

BILLING CODE 4000-01-P